DEPARTMENT OF LABOR

Employment and Training Administration

[TA-W-58,475, TA-W-58,475A, and TA-W-58,475B]

Pendleton Woolen Mills, Inc., Corporate Headquarters, Portland, OR; Menswear Distribution Center, Milwaukie, OR; Bellevue Plant, Bellevue, NE; Washougal Mill, Washougal, WA; and Pendelton Mill, Pendelton, OR; Notice of Termination of Investigation

Pursuant to section 221 of the Trade Act of 1974, as amended, an investigation was initiated on December 7, 2005 in response to a worker petition filed by a company official on behalf of workers at Pendleton Woolen Mills, Inc., Corporate headquarters, Portland Oregon; Menswear Distribution Center, Milwaukie, Oregon; Bellevue Plant, Bellevue, Nebraska; Washougal Mill, Washougal, Washington and Pendleton Mill, Pendleton, Oregon.

The petitioner has requested that the petition be withdrawn. Consequently, the investigation has been terminated.

Signed at Washington, DC this 14th day of December 2005.
Richard Church,
Certifying Officer, Division of Trade Adjustment Assistance.

[FR Doc. E5-7961 Filed 12-27-05; 8:45 am]

BILLING CODE 4510-30-P